SMALL BUSINESS ADMINISTRATION

Reporting and Recordkeeping Requirements Under OMB Review

AGENCY: Small Business Administration.

ACTION: 30-Day notice.

SUMMARY: The Small Business Administration (SBA) is seeking approval from the Office of Management and Budget (OMB) for the information collection described below. In accordance with the Paperwork Reduction Act and OMB procedures, SBA is publishing this notice to allow all interested member of the public an additional 30 days to provide comments on the proposed collection of information.

DATES: Submit comments on or before August 30, 2024.

ADDRESSES: Written comments and recommendations for this information collection request should be sent within 30 days of publication of this notice to www.reginfo.gov/public/do/ PRAMain. Find this particular information collection request by selecting “Small Business Administration”; “Currently Under Review,” then select the “Only Show ICR for Public Comment” checkbox. This information collection can be identified by title and/or OMB Control Number.

FOR FURTHER INFORMATION CONTACT: You may obtain a copy of the information collection and supporting documents from the Agency Clearance Office at Curtis.Rich@sba.gov; (202) 205-7030, or from www.reginfo.gov/public/do/PRAMain.

SUPPLEMENTARY INFORMATION: SBA is required by statute to administer the 8(a) Business Development (15 U.S.C. 637(a); 13 CFR 124); Historically Underutilized Business Zone (HUBZone) (15 U.S.C. 657a; 13 CFR 126); Veteran-Owned/Service-Disabled Veteran-Owned (VOSB/SDVOSB) (15 U.S.C. 657f and 657f-1; 13 CFR 128); and Women-Owned/Economically Disadvantaged Women-Owned (WOSB/EDWOSB) (15 U.S.C. 636(m); 13 CFR 127) certification programs. The Small Business Act requires small businesses to apply to SBA for 8(a), HUBZone, VOSB/SDVOSB, and WOSB/EDWOSB certifications. SBA's regulations require the applications for certification to be submitted electronically. All of the collections are overseen by Government Contracting and Business Development staff. The HUBZone program requires small businesses to recertify their eligibility annually, while WOSB/EDWOSB and VOSB/SDVOSB require recertification every three years. All recertifications are done electronically. This information collection will allow for application, certification, recertification, and administration of the 8(a), HUBZone, WOSB/EDWOSB, and VOSB/SDVOSB programs in one system. By having one system, the process is streamlined and easier for small businesses applying to SBA for certification.

Failing to collect the information described above would impede SBA's ability to fulfill its statutory mandates to certify 8(a), HUBZone, VOSB/SDVOSB, and WOSB/EDWOSB certification programs, and maintain and update the list of certified small business concerns.

This PRA submission will amend SBA forms from the current HUBZone (OMB Control No. 3245-0320), 8(a) (OMB Control No. 3245-0331), VOSB/SDVOSB (OMB Control No. 3245-0426), and WOSB/EDWOSB (OMB Control No. 3245-0374) information collections into one unified information collection.

Solicitation of Public Comments

Comments may be submitted on (a) whether the collection of information is necessary for the agency to properly perform its functions; (b) whether the burden estimates are accurate; (c) whether there are ways to minimize the burden, including through the use of automated techniques or other forms of information technology; and (d) whether there are ways to enhance the quality, utility, and clarity of the information.

OMB Control Number 3245-0374.

Title: SBA Unified Certification System.

Description of Respondents: Small Business concerns applying for SBA certification in the 8(a), HUBZone, WOSB/EDWOSB, and VOSB/SDVOSB programs.

SBA Form Number: SBA Form 2413.

Estimated Number of Respondents: 29,329.

Estimated Annual Responses: 29,329.

Estimated Annual Hour Burden: 39,330.

Curtis Rich,
Agency Clearance Officer.

[FR Doc. 2024-16853 Filed 7-30-24; 8:45 am]

BILLING CODE 8026-09-P